DEPARTMENT OF COMMERCE

National Oceanic and Atmospheric Administration

RIN 0648-XF136

Pacific Fishery Management Council; Public Meeting

AGENCY: National Marine Fisheries Service (NMFS), National Oceanic and Atmospheric Administration (NOAA), Commerce.

ACTION: Notice; public meeting.

SUMMARY: The Pacific Fishery Management Council's (Pacific Council) Highly Migratory Species Advisory Subpanel (HMSAS) will hold a webinar, which is open to the public.

DATES: The HMSAS webinar will be on Tuesday, January 31, 2017, from 1:30 to 3:30 p.m. Pacific Time, or when business for the day is complete.

ADDRESSES: To attend the HMSAS webinar visit this link: http://www.gotomeeting.com/online/webinar/join-webinar. Enter the Webinar ID: 957-023-963. Please enter your name and email address (required). After logging into the webinar, dial this TOLL number +1 (562) 247-8422 (not a toll-free number), enter the attendee phone audio access code 370-921-429, then enter your audio phone PIN (shown after joining the webinar). Participants are encouraged to use their telephone, as this is the best practice to avoid technical issues and excessive feedback. If you do not select “Use Telephone” after joining the webinar you will be connected to audio using your computer's microphone and speakers (VolP). You may send an email to Mr. Kris Kleinschmidt (kris.kleinschmidt@noaa.gov) or contact him at (503) 820-2280, extension 425 for technical assistance. A listening station will also be provided at the Pacific Council office.

Council address: Pacific Council, 7700 NE Ambassador Place, Suite 101, Portland, OR 97220-1384.

FOR FURTHER INFORMATION CONTACT: Kit Dahl, Pacific Council; telephone: (503) 820-2422.

SUPPLEMENTARY INFORMATION: The HMSAS will be briefed on proposed changes to the Fishery Management Plan for U.S. West Coast Fisheries for Highly Migratory Species (HMS FMP). Changes are proposed in Chapters 1, 4, 6, and 8. These changes are not intended to change the management framework described in the FMP or any related policies; rather, edits to update descriptive information and improve the readability of the document.

Although nonemergency issues not contained in the meeting agenda may be discussed, those issues may not be the subject of formal action during the meeting. Action will be restricted to those issues specifically listed in this document and any issues arising after publication of this document that require emergency action under section 305(c) of the Magnuson-Stevens Fishery Conservation and Management Act, provided the public has been notified of the intent to take final action to address the emergency.

Technical Information and System Requirements

PC-based attendees: Windows® 7, Vista, or XP operating system required. Mac®-based attendees: Mac OS® X 10.5 or newer required. Mobile attendees: iPhone®, iPad®, Android™ phone or Android tablet required (use GoToMeeting Webinar Apps).

Special Accommodations

The meeting is physically accessible to people with disabilities. Requests for sign language interpretation or other auxiliary aids should be directed to Mr. Kris Kleinschmidt at (503) 820-2280 at least 10 days prior to the meeting date.

Dated: January 4, 2017.
Tracey L. Thompson,
Acting Deputy Director, Office of Sustainable Fisheries, National Marine Fisheries Service.

[FR Doc. 2017-00114 Filed 1-6-17; 8:45 am]

BILLING CODE 3510-22-P